DEPARTMENT OF ENERGY

Federal Energy Regulatory Commission

[Project No. 15038-001]

Let It Go, LLC; Notice of Application Tendered for Filing With the Commission and Soliciting Additional Study Requests

Take notice that the following hydroelectric application has been filed with the Commission and is available for public inspection.

a. Type of Application: Exemption from Licensing.

b. Project No.: 15038-001.

c. Date Filed: December 9, 2021.

d. Applicant: Let It Go, LLC.

e. Name of Project: Jefferson Mill Hydroelectric Project.

f. Location: On the Hardware River near the Town of Scottsville, Albemarle County, Virginia. The project does not occupy federal land.

g. Filed Pursuant to: Public Utility Regulatory Policies Act of 1978, 16 U.S.C. 2705, 2708, amended by the Hydropower Regulatory Efficiency Act of 2013, Public Law 113-23, 127 Stat. 493 (2013).

h. Applicant Contacts: Aaron Van Duyne III, Let It Go, LLC c/o Van Duyne, Bruno & Co., P.A.; 18 Hook Mountain Road, Suite 202, P.O. Box 896, Pine Brook, NJ 07058; avanduyne@vb-cpa.com; Kevin O'Brien, 809 Bolling Ave., Unit C, Charlottesville, VA 22902; (703) 966-2438 or kaob@fpcinc.biz; and/or Jessica Penrod (lead contact for project questions), Natel Energy, 2401 Monarch St., Alameda, CA 94501; 415-845-1933 or Jeffersonmill@natelenergy.com.

i. FERC Contact: Andy Bernick at (202) 502-8660; or email at andrew.bernick@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: February 7, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Jefferson Mill Hydroelectric Project (P-15038-001).

m. This application is not ready for environmental analysis at this time.

n. The proposed project would consist of: (1) An existing 140-foot-long, 9-foot-high masonry dam that impounds a 1.46-acre reservoir with a gross volume of 5.3 acre-feet at the normal pool elevation of 320.0 feet mean sea level; (2) a new 12.5-foot-wide, 4-foot-high intake rack with 0.75-inch spacing to prevent river debris from entering the intake; (3) a new 14-foot-long, 12-foot-wide, and 10-foot-high reinforced concrete intake structure, mostly constructed below-grade and upstream of the dam on the west side of the river; (4) a new 70-foot-long, 3-foot-diameter penstock; (5) a new eel ramp for the upstream passage of American eel and sea lamprey; (6) an existing 3-foot-wide and 0.9-foot-high low-flow notch and 4.6-foot-deep plunge pool for downstream fish passage; (7) an existing 33-foot-wide, 8-foot-long, 14-foot-high powerhouse with one new 20-kilowatt (kW) turbine-generator unit; (8) two new 100-foot-long underground utility trenches (containing conduits for utility power, generator power, and communications) between the powerhouse and control equipment shed; (9) a new draft tube that connects the exit of the turbine to the tailrace; (10) a transmission line connecting the project to the distribution system owned by the Appalachian Power Company; and (11) appurtenant facilities. The project is estimated to generate an average of 111,000 kW-hours annually. The applicant proposes to operate the project in a run-of-river mode.

o. A copy of the application may be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support. You may also register online at http://www.ferc.gov/docs-filing/esubscription.asp to be notified via email of new filings and issuances related to this or other pending projects. For assistance, contact FERC Online Support.

p. With this notice, we are initiating consultation with the Virginia State Historic Preservation Officer (SHPO), as required by section 106 of the National Historic Preservation Act and the regulations of the Advisory Council on Historic Preservation, 36 CFR 800.4.

q. Procedural schedule and final amendments: The application will be processed according to the following preliminary schedule. Revisions to the schedule will be made as appropriate (e.g., if there are no deficiencies or a need for additional information, the schedule would be shortened).

Issue Deficiency Letter (if necessary)—March 2022

Request Additional Information—March 2022

Issue Acceptance Letter—June 2022

Issue Scoping Document 1 for comments—July 2022

Request Additional Information (if necessary)—September 2022

Issue Scoping Document 2—October 2022

Issue Notice of Ready for Environmental Analysis—October 2022

Dated: December 17, 2021.
Kimberly D. Bose,
Secretary.

[FR Doc. 2021-27873 Filed 12-22-21; 8:45 am]

BILLING CODE 6717-01-P